DEPARTMENT OF HEALTH AND HUMAN SERVICES

Centers for Disease Control and Prevention

[30-Day-11-10HC]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC 20503 or by fax to (202) 395-5806. Written comments should be received within 30 days of this notice.

Proposed Project

HIV/AIDS Awareness Day Programs—New—National Center for HIV/AIDS, Viral Hepatitis, STD, and Tuberculosis Prevention (NCHHSTP), Centers for Disease Control and Prevention (CDC).

Background and Brief Description

CDC is requesting OMB approval to administer surveys to respondents who plan HIV/AIDS day awareness activities during the next 3 years. The name and dates for the annual HIV/AIDS awareness day campaigns are: National Black HIV Awareness Day—February 7th; National Native HIV/AIDS Awareness Day—March 20th; National Asian and Pacific Islander HIV/AIDS Awareness Day—May 19th; and National Latino AIDS Awareness Day—October 15th. The purpose of the surveys is to assess the number and types of HIV/AIDS prevention activities planned and implemented in observance of each of the four noted HIV/AIDS awareness day campaigns.

After the date that each campaign occurs, the event planners will be asked to respond to a computer-based survey to collect qualitative data. They will go to the designated websites to review information about the campaigns and go to the section that allows them to enter information about their particular event. For example, the event planners will be asked to note the kind of events that they planned. The survey results are necessary to understand how and where HIV/AIDS awareness activities are planned and implemented.

These survey results will provide important information that will be used to develop HIV/AIDS prevention activities. The computer-based surveys take up to one hour. The surveys and interviews are one-time only and will not require a follow-up. There is no cost to the respondents other than their time. The estimated annualized burden hours are 375.

Estimated Annualized Burden Hours
Respondents | Form name | Number of respondents | Responses per respondent | Average burden per response (in hours)
African-American HIV/AIDS awareness day activity planners | National Black HIV/AIDS Awareness Day Evaluation Report | 200 | 1 | 1
Asian and Pacific Islander HIV/AIDS awareness day activity planners | National Asian & Pacific Islander HIV/AIDS Awareness Day Evaluation Report | 15 | 1 | 1
Latino HIV/AIDS awareness day activity planners | National Latino AIDS Awareness Day Evaluation Report | 125 | 1 | 1
Native HIV/AIDS awareness day activity planners | National Native HIV/AIDS Awareness Day Evaluation Report | 35 | 1 | 1

Daniel Holcomb,
Reports Clearance Officer, Centers for Disease Control and Prevention.

[FR Doc. 2011-8650 Filed 4-11-11; 8:45 am]

BILLING CODE 4163-18-P